NATIONAL ARCHIVES AND RECORDS ADMINISTRATION

[NARA-2022-030]

Records Management; General Records Schedule (GRS); GRS Transmittal 32

AGENCY: National Archives and Records Administration (NARA).

ACTION: Notice of new General Records Schedule (GRS) Transmittal 32.

SUMMARY: NARA is issuing revisions to the General Records Schedule (GRS). The GRS provides mandatory disposition instructions for records common to several or all Federal agencies. Transmittal 32 includes only changes we have made to the GRS since we published Transmittal 31 in April 2020. Additional GRS schedules remain in effect that we are not issuing via this transmittal.

DATES: This transmittal is effective April 4, 2022.

ADDRESSES: You can find all GRS schedules, crosswalks, and FAQs at http://www.archives.gov/records-mgmt/grs.html (in Word, PDF, and CSV formats). You can download the complete current GRS, in PDF format, from the same location.

FOR FURTHER INFORMATION CONTACT: For more information about this notice or to obtain paper copies of the GRS, contact Kimberly Keravuori, Regulatory and External Policy Program Manager, by email at regulation_comments@nara.gov or by telephone at 301.837.3151.

Writing and maintaining the GRS is the GRS Team's responsibility. This team is part of Records Management Services in the National Records Management Program, Office of the Chief Records Officer, at NARA. You may contact NARA's GRS Team with general questions about the GRS at GRS_Team@nara.gov.

Your agency's records officer may contact the NARA appraiser or records analyst with whom your agency normally works for support in carrying out this transmittal and the revised portions of the GRS. You may access a list of the appraisal and scheduling work group and regional contacts on our website at http://www.archives.gov/records-mgmt/appraisal/index.html.

SUPPLEMENTARY INFORMATION: GRS Transmittal 32 announces changes to the General Records Schedules (GRS) made since we published GRS Transmittal 31 in April 2020. The GRS provide mandatory disposition instructions for records common to several or all Federal agencies. Transmittal 32 includes alterations to seven previously published schedules.

You can find all schedules (in Word and PDF formats), a master crosswalk, FAQs for all schedules, and FAQs about the whole GRS at http://www.archives.gov/records-mgmt/grs.html. At the same location, you can also find the entire GRS (just schedules—no crosswalks or FAQs) in a single document you can download.

1. What changes does this transmittal make to the GRS?

GRS Transmittal 32 publishes updates to:

GRS 2.4 Employee Compensation and Benefits Records (see question 2 below)

GRS 2.7 Employee Health and Safety Records (see question 3 below)

GRS 4.2 Information Access and Protection Records (see question 4 below)

GRS 4.4 Library Records (see question 5 below)

GRS 5.3 Continuity and Emergency Planning Records (see question 6 below)

GRS 5.6 Security Records (see question 7 below)

GRS 5.7 Agency Accountability Records (see question 8 below)

2. What changes did we make to GRS 2.4?

We added a flexible retention option (“but longer retention is authorized if required for business use”) to item 035. Our omission of this flexibility from the original item was an oversight.

3. What changes did we make to GRS 2.7?

We added two items to cover records of vaccine attestations for Federal employees and contractors (item 063) and visitors (item 064), and two items to cover symptom screening and testing records for Federal employees (item 065) and contractors and visitors (item 66).

4. What changes did we make to GRS 4.2?

We reduced the retention period of item 100. It previously directed agencies to retain the records for 30 years after completing a declassification review. Now, agencies may destroy records documenting a declassification review immediately upon either of two subsequent events: The agency conducts another declassification review or the agency transfers the reviewed records to NARA. We altered the retention period in response to a request from the Department of State, which pointed out that the previous instruction could result in agencies being required to retain records documenting the declassification process until as late as 105 years after the records were created.

5. What changes did we make to GRS 4.4?

We modified the background information to clarify that the schedule applies to library and information centers within agencies, but not to stand-alone libraries, such as the Library of Congress, or national libraries.

6. What changes did we make to GRS 5.3?

In the first sentence of the Background Information, we changed the generic word “sensitive” to a term with a precise definition: “controlled unclassified.”

7. What changes did we make to GRS 5.6?

We updated this schedule to further clarify that it does not include records related to Federal law enforcement and Federal correctional activities and that this exclusion includes border and transportation security and immigration and naturalization services. We changed the schedule title “Security Management Records” to help with this distinction.

We altered item 010 to clarify the subject matter as security management and expanded the description's list of examples. We removed the bullet for standard operating procedures manuals, as they are properly covered by GRS 5.7, item 030.

We revised items 030, 090, and 100 to clarify that they do not cover records related to Federal law enforcement and correctional activities including border and transportation security and immigration and naturalization services. Item 090 was revised to make it clear that it does not apply to videos of accidents or incidents or video surveillance of accidents or incidents in Federal facilities or facilities operated by contractors on behalf of the Federal Government.

We revised item 120's disposition instruction to be more concise. We revised item 130's title to clarify that it covers all manner of temporary access identification records. We changed the term “sensitive data” to “controlled unclassified information” in items 180 and 181.

8. What changes did we make to GRS 5.7?

We revised this schedule to clarify that it applies only to records related to management and oversight of agency administrative functions. This included changing the name of the schedule to “Administrative Management and Oversight Records” and updating the background information to clarify that it applies only to management of administrative functions, not functions related to agency mission. The new background section specifically excludes records related to agency strategic planning and performance management.

We altered item 010's title and revised the list of examples to remove generic records types that are arguably not “management controls.”

We revised the title of item 040 and added a sentence to the description to clarify that the item applies only to requirements for reports related to administrative activities. We also added an exclusion to clarify that item 040 does not cover the reports themselves.

We eliminated from item 050's list of included records reports that are not specific to administrative activities, such as Performance and Accountability Reports (PAR). We also added an exclusion to make it clear that mandatory reports related to non-administrative matters are not covered by this item and must be scheduled by the agency.

9. How do agencies cite GRS items?

When you send records to an FRC for storage, you should cite the records' legal authority—the “DAA” number—in the “Disposition Authority” column of the table. Please also include schedule and item number. For example, “DAA-GRS-2017-0007-0008 (GRS 2.2, item 070).”

10. Do agencies have to take any action to implement these GRS changes?

NARA regulations (36 CFR 1226.12(a)) require agencies to disseminate GRS changes within six months of receipt.

Per 36 CFR 1227.12(a)(1), you must follow GRS dispositions that state they must be followed without exception.

Per 36 CFR 1227.12(a)(3), if you have an existing schedule that differs from a new GRS item that does not require being followed without exception, and you wish to continue using your agency-specific authority rather than the GRS authority, you must notify NARA within 120 days of the date of this transmittal.

If you do not have an already existing agency-specific authority but wish to apply a retention period that differs from that specified in the GRS, you must submit a records schedule to NARA for approval via the Electronic Records Archives.

David S. Ferriero,
Archivist of the United States.

[FR Doc. 2022-07041 Filed 4-1-22; 8:45 am]

BILLING CODE 7515-01-P